DEPARTMENT OF HOMELAND SECURITY

Transportation Security Administration

Revision of Agency Information Collection Activity Under OMB Review: TSA PreCheck® Application Program

AGENCY: Transportation Security Administration, DHS.

ACTION: 30-Day notice.

SUMMARY: This notice announces that the Transportation Security Administration (TSA) has forwarded the Information Collection Request (ICR), Office of Management and Budget (OMB) control number 1652-0059, abstracted below to OMB for review and approval of a revision of the currently approved collection under the Paperwork Reduction Act (PRA). The ICR describes the nature of the information collection and its expected burden. The collection involves the submission of biographic and biometric information by individuals seeking to enroll in the TSA PreCheck® (also known as TSA Pre✓®) Application Program, as well as optional surveys related to customer service and enrollment processes.

DATES: Send your comments by September 23, 2024. A comment to OMB is most effective if OMB receives it within 30 days of publication.

ADDRESSES: Written comments and recommendations for the proposed information collection should be sent within 30 days of publication of this notice to www.reginfo.gov/public/do/PRAMain. Find this particular information collection by selecting “Currently under Review—Open for Public Comments” and by using the find function.

FOR FURTHER INFORMATION CONTACT: Christina A. Walsh, TSA PRA Officer, Information Technology (IT), TSA-11, Transportation Security Administration, 6595 Springfield Center Drive, VA 22150; telephone (571) 227-2062; email TSAPRA@tsa.dhs.gov.

SUPPLEMENTARY INFORMATION: TSA published a Federal Register notice, with a 60-day comment period soliciting comments, of the following collection of information on February 22, 2024, 89 FR 13356.

Comments Invited

In accordance with the Paperwork Reduction Act of 1995 (44 U.S.C. 3501 et seq.), an agency may not conduct or sponsor, and a person is not required to respond to, a collection of information unless it displays a valid OMB control number. The ICR documentation will be available at https://www.reginfo.gov upon its submission to OMB. Therefore, in preparation for OMB review and approval of the following information collection, TSA is soliciting comments to:

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: TSA PreCheck® Application Program, 49 U.S.C. 114.

Type of Request: Revision of a previously approved collection.

OMB Control Number: 1652-0059.

Forms(s): N/A.

Affected Public: Individuals.

Abstract: Pursuant to the statutory authorities explained below, TSA has implemented a voluntary enrollment program for individuals to apply for the TSA PreCheck® Application Program. Section 109(a)(3) of the Aviation and Transportation Security Act, Public Law 107-71 (115 Stat. 597, 613, Nov. 19, 2001, codified at 49 U.S.C. 114 note) provides TSA with the authority to “establish requirements to implement trusted programs and use available technologies to expedite security screening of passengers who participate in such programs, thereby allowing security screening personnel to focus on those passengers who should be subject to more extensive screening.” In addition, TSA has express, statutory authority to establish and collect a fee for any registered traveler program by publication of a notice in the Federal Register, as outlined in the Department of Homeland Security Appropriations Act, 2006, Public Law 109-90 (119 Stat. 2064, 2088-89, Oct. 18, 2005).

Although participation in the TSA PreCheck® Application Program is voluntary, individuals must submit biographic, biometric,¹ and biometric information directly to TSA, which TSA uses to conduct identity verification and a Security Threat Assessment (STA) of criminal, immigration, intelligence, and regulatory violation databases. Interested applicants must provide certain minimum required data elements, including, but not limited to, name, date of birth, gender, address, contact information, country of birth, images of identity documents, proof of citizenship or immigration status, and biometrics via a secure interface. TSA uses this information to verify identity at enrollment, conduct an STA, make a final eligibility determination for the TSA PreCheck® Application Program, and verify the identities of TSA PreCheck®-enrolled and approved individuals when they are traveling.

¹ Unless otherwise specified, for the purpose of this document, “biometrics” refers to fingerprints and/or facial imagery.

As part of this process, TSA sends the applicants' fingerprints and associated information to the Federal Bureau of Investigation (FBI) for the purpose of comparing their fingerprints to other fingerprints in the FBI's Next Generation Identification (NGI) system or its successor systems including civil, criminal, and latent fingerprint repositories. The FBI may retain applicants' fingerprints and associated information in NGI after the completion of their application and, while retained, their fingerprints may continue to be compared against other fingerprints submitted to or retained by NGI as part of the FBI's Rap Back program.² In retaining applicants' fingerprints, the FBI conducts recurrent vetting of applicants' criminal history until the expiration date of the applicant's STA. TSA also transmits applicants' biometrics for enrollment into the Department of Homeland Security Automated Biometrics Identification System and its successor systems for recurrent vetting of applicants' criminal history, lawful presence, and ties to terrorism and for future support of TSA's biometric-based identification at airport checkpoints.

² The FBI's Rap Back service allows authorized agencies to receive on-going status notifications of any criminal history reported to the FBI after the initial processing and retention of criminal or civil transactions using fingerprint identification.

TSA uses the STA results to decide if an individual poses a low risk to transportation or national security. TSA issues approved applicants a known traveler number (KTN) that they may use when making travel reservations. Airline passengers who submit a KTN when making airline reservations are eligible for expedited screening on flights originating from U.S. airports and select international locations including Nassau, Bahamas.³ TSA uses the traveler's KTN and other information during passenger prescreening to verify that the individual traveling matches the information on TSA's list of known travelers and to confirm TSA PreCheck® expedited screening eligibility.

³ Passengers who are eligible for expedited screening typically will receive more limited physical screening; e.g., will be able to leave on their shoes, light outerwear, and belt; to keep their laptop in its case; and to keep their “3-1-1” compliant liquids/gels bag in a carry-on.

When the STA is complete, TSA makes a final determination on eligibility for the TSA PreCheck® Application Program and notifies applicants of its decision. Most applicants generally should expect to receive notification from TSA within three to five days and up to 60 days from the submission of their completed applications. If initially deemed ineligible by TSA, applicants will have an opportunity to correct cases of misidentification or inaccurate criminal records. Applicants must submit a correction of any information they believe to be inaccurate within 60 days of issuance of TSA's letter. If a corrected record is not received by TSA within the specified amount of time, the agency may make a final determination to deny eligibility. Individuals who TSA determines are ineligible for the TSA PreCheck® Application Program will undergo standard or other screening at airport security checkpoints.

The TSA PreCheck® Application Program enhances aviation security by permitting TSA to better focus its limited security resources on passengers who are unknown to TSA and whose level of risk is undetermined, while also facilitating and improving the commercial aviation travel experience for the public. Travelers who choose not to enroll in this initiative are not subject to any limitations on their travel because of their choice; they will be processed through normal TSA screening before entering the sterile areas of airports. TSA also retains the authority to perform standard or other screening on a random basis on TSA PreCheck® Application Program participants and any other travelers authorized to receive expedited physical screening.

TSA PreCheck® Enrollment and Renewal Enhancements

The introduction of additional enrollment providers, as discussed in the previous ICR revision, allows enrollment providers to offer multiple price points for TSA PreCheck® enrollment and renewal as well as additional enrollment locations, which will allow the public to select the best option for their needs. TSA plans to explore new enrollment capabilities to include remote proctored enrollment ⁴ to further expand TSA's ability to service the public. This revision also addresses TSA's plan to accept Mobile Drivers Licenses and other TSA approved Digital Identities for identity verification at enrollment upon TSA approval. Lastly, TSA intends to continue to collect information from TSA PreCheck® members after enrollment through voluntary customer experience surveys to better serve the public.

⁴ Remote Proctored Enrollment refers to enrollments conducted in-person by the applicant and monitored remotely by a trusted agent via real-time video stream. The remote trusted agent maintains the integrity of the enrollment by monitoring the entire process from start-to-finish including the collection of identity documents and the traditional capture of contact fingerprints.

Average Annual Number of Respondents: An estimated 6,005,854 average annual respondents. This estimate is based on current and projected enrollments with TSA's existing program.

Average Annual Number of Responses: An estimated 8,384,125 average annual responses. There could be multiple responses per respondent depending on the requested information.

Estimated Annual Burden Hours: An estimated 4,069,167 average annual hours. This estimate includes time to fill out the enrollment or renewal application, round trip travel time to an enrollment center (as needed), providing biographic and biometric information to TSA (via an enrollment center or pre-enrollment options), the time burden for any records correction for the applicant, and time for surveys.

Estimated Annual Cost Burden: An estimated $461,115,379 annual average cost burden. The applicant fee per respondent for those who apply for the program directly with TSA will average $80 for initial enrollments, $70 for online renewals, and $75 for in-person renewals, which covers TSA's program costs, TSA's enrollment vendor's costs, and the FBI fee for the criminal history records check.

Dated: August 20, 2024.
Christina A. Walsh,
TSA Paperwork Reduction Act Officer, Information Technology.

[FR Doc. 2024-19001 Filed 8-22-24; 8:45 am]

BILLING CODE 9110-05-P